DEPARTMENT OF THE INTERIOR

Fish and Wildlife Service

[FWS-R4-ES-2020-N030; FXES11140400000-178-FF04E00000]

Endangered and Threatened Wildlife; Incidental Take Permit Application, Habitat Conservation Plan for the Alabama Beach Mouse, Gulf Shores, AL; Categorical Exclusion

AGENCY: Fish and Wildlife Service, Interior.

ACTION: Notice of availability; request for comments and information.

SUMMARY: We, the Fish and Wildlife Service (Service), announce receipt of an application from the City of Gulf Shores, Alabama (applicant), to modify incidental take permit TE84363C-0 (ITP) under the Endangered Species Act. The ITP authorizes take of the federally listed Alabama beach mouse incidental to construction in Gulf Shores, Alabama. We request public comment on the application, which includes the applicant's proposed modified habitat conservation plan (HCP), and the Service's preliminary determination that the HCP qualifies as “low-effect,” categorically excluded, under the National Environmental Policy Act. To make this determination, we used our environmental action statement and low-effect screening form, both of which are also available for public review.

DATES: We must receive your written comments on or before April 10, 2020.

ADDRESSES: Obtaining Documents: Documents are available for public inspection by appointment during regular business hours at either of the following locations:

• Atlanta Regional Office, Ecological Services, U.S. Fish and Wildlife Service, 1875 Century Boulevard, Atlanta, GA 30345.

• Alabama Ecological Services Office, U.S. Fish and Wildlife Service, 1208 Main Street, Daphne, AL 36526.

• Email a request to William_Lynn@fws.gov, please reference TE84363C-1 in the subject line.

Submitting Comments: If you wish to submit comments on any of the documents, you may do so in writing by either of the following methods. Please reference TE84363C-1 in all comments.

U.S. Mail: You may mail comments to either of the Fish and Wildlife Service Offices listed above.

Hand-Delivery: You may hand-deliver comments to either of the Fish and Wildlife Service Offices listed above.

Email: You may email comments to david_dell@fws.gov. Please include your name and email address in your email. If you do not receive an email from us confirming that we have received your message, contact us directly at either telephone number in FOR FURTHER INFORMATION CONTACT.

FOR FURTHER INFORMATION CONTACT: David Dell, Regional HCP and Safe Harbors Coordinator, at the Atlanta Regional Office (see ADDRESSES) or by telephone at 404-679-7313 or William Lynn, Project Manager, at the Alabama Ecological Services Office (see ADDRESSES) or by telephone at 251-441-5868. If you use a telecommunications device for the deaf (TDD), please call the Federal Relay Service at 800-877-8339.

SUPPLEMENTARY INFORMATION: We, the Fish and Wildlife Service, announce receipt of an application from the City of Gulf Shores, Alabama (applicant), to modify an existing 50-year incidental take permit (ITP) under the Endangered Species Act of 1973, as amended (ESA; 16 U.S.C. 1531 et seq.). The applicant requests to take the federally listed Alabama beach mouse (Peromyscus polionotus ammobates) incidental to the construction of a parking lot with associated facilities (project) in Gulf Shores, Alabama. The ITP modification would reduce the amount of take from 0.89 to 0.86 acres of occupied ABM habitat. We request public comment on the application, which includes the proposed modified habitat conservation plan (HCP) and the Service's preliminary determination that the HCP qualifies as “low-effect,” categorically excluded, under the National Environmental Policy Act (NEPA; 42 U.S.C. 4231 et seq.). To make this determination, we used our environmental action statement and low-effect screening form, both of which are also available for public review.

Project

The applicant requests to modify its ITP to authorize take of the ABM via conversion of approximately 0.86 acres of the species' occupied associated with construction of a parking lot with amenities on 1.37 acres of a 5.1-acre parcel in Baldwin County, Alabama. The applicant proposes to implement standard ABM minimization and mitigation measures to mitigate for take of the species. The standard minimization and mitigation measures include, but are not limited to, reducing the construction footprint, shifting the project to the west and north to increase habitat continuity for the species, installing sea turtle-friendly exterior lighting and tinted windows, planting landscaping with native vegetation, and constructing a driveway with materials that will not disperse in a storm surge. The applicant will utilize refuse control measures during construction, as well as restore species' habitat after tropical storms. Free-roaming cats and use of exterior rodenticide also would be prohibited on the parcel. The applicant will conduct on-site monitoring of the Alabama beach mouse population via fall and spring trapping surveys (twice a year) over the remaining term of the ITP. Other minimization and mitigation measures include trapping and relocating ABM, dune enhancement, and restoration and installation of sand fencing. The applicant also would create and contribute to a dune enhancement fund to which future developers could also contribute. The applicant would make an annual contribution to the fund over the span of the ITP. The proceeds from the fund would be used to enhance habitat elsewhere within the city limits where ABM might be found.

Public Availability of Comments

Before including your address, phone number, email address, or other personal identifying information in your comment, be aware that your entire comment including your personal identifying information may be made available to the public. While you may request that we withhold your information, we cannot guarantee that we will be able to do so.

Our Preliminary Determination

The Service has made a preliminary determination that the applicant's project, including the proposed minimization and mitigation measures, would have a minor or negligible effect on the Alabama beach mouse and the environment. Therefore, we have preliminarily determined that modification of the incidental take permit would qualify for categorical exclusion and the modified HCP would be “low effect” and categorically excluded under our NEPA regulations at 43 CFR 46.205 and 46.210. A low-effect HCP is one that would result in (1) minor or negligible effects on federally listed, proposed, and candidate species and their habitats; (2) minor or negligible effects on other environmental values or resources; and, (3) impacts that, when considered together with those of other past, present, and reasonably foreseeable similarly situated projects, would not over time result in significant individual or cumulative effects to environmental values or resources.

Next Steps

The Service will evaluate the application and comments to determine whether to issue the requested modified permit. We will also conduct an intra-Service consultation pursuant to section 7 of the ESA to evaluate the effects of the proposed take. After considering the preceding findings, we will determine whether to modify the ITP and issue ITP number TE84363C-1 to the City of Gulf Shores.

Authority

The Service provides this notice under section 10(c) (16 U.S.C. 1539(c)) of the ESA and NEPA regulation 40 CFR 1506.6.

William Pearson,
Field Supervisor, Alabama Field Office.

[FR Doc. 2020-04959 Filed 3-10-20; 8:45 am]

BILLING CODE 4333-15-P